ENVIRONMENTAL PROTECTION AGENCY

[EPA-HQ-OAR-2015-0341; FRL-9929-15-OAR]

Notice of Availability of the Environmental Protection Agency's Update of Two Chapters in the EPA Air Pollution Control Cost Manual

AGENCY: Environmental Protection Agency (EPA).

ACTION: Notice of data availability.

SUMMARY: The Environmental Protection Agency (EPA) is providing notice that two chapters of the current EPA Air Pollution Control Cost Manual (“Control Cost Manual”) have been revised and updated. The EPA is requesting comment on the update of these two chapters, both of which deal with oxides of nitrogen (NOx) emissions control measures, and the supporting data and methods applied.

DATES: Comments must be received on or before August 11, 2015. Please refer to SUPPLEMENTARY INFORMATION for additional information on submitting comments on the provided data.

ADDRESSES: Submit your comments, identified by Docket ID No. EPA-HQ-OAR-2015-0341, by one of the following methods:

• Federal eRulemaking Portal: http://www.regulations.gov. Follow the on-line instructions for submitting comments.

• Email: A-and-R-Docket@epa.gov. Include docket ID No. EPA-HQ-OAR-2015-0341 in the subject line of the message.

• Fax: (202) 566-9744. Attention Docket ID No. EPA-HQ-OAR-2015-0341.

• Mail: EPA Docket Center, WJC West Building, Attention Docket ID No. EPA-HQ-OAR-2015-0341, U.S. Environmental Protection Agency, Mailcode: 28221T, 1200 Pennsylvania Ave. NW., Washington, DC 20460. Please include a total of 2 copies.

• Hand Delivery: U.S. Environmental Protection Agency, WJC West Building, 1301 Constitution Avenue NW., Room 3334, Washington, DC 20004, Attention Docket ID No. EPA-HQ-OAR-2015-0341. Such deliveries are only accepted during the Docket's normal hours of operation, and special arrangements should be made for deliveries of boxed information.

Instructions: Direct your comments to Docket ID No. EPA-HQ-OAR-2015-0341. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket and Information Center, EPA/DC, WJC West Building, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For questions on the EPA Air Pollution Control Cost Manual update and on how to submit comments, contact Larry Sorrels, Health and Environmental Impacts Division, Environmental Protection Agency, C439-02, 109 T.W. Alexander Drive, Research Triangle Park, NC 27709; telephone number: (919) 541-5041; fax number: (919) 541-0839; email address: sorrels.larry@epa.gov.

SUPPLEMENTARY INFORMATION: The EPA is requesting comment on the EPA Air Pollution Control Cost Manual update; in particular, on the specific Control Cost Manual chapters included in this notice.

I. Additional Information on Submitting Comments

A. What should I consider as I prepare my comments for the EPA?

1. Submitting CBI. Do not submit this information to the EPA through www.regulations.gov or email. Clearly mark the part or all of the information that you claim to be CBI. For CBI information in a disk or CD-ROM that you mail to the EPA docket office specified in the Instructions, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

a. Identify the notification by docket number and other identifying information (subject heading, Federal Register date and page number).

b. Explain your comments, why you agree or disagree; suggest alternatives and substitute data that reflects your requested changes.

c. Describe any assumptions and provide any technical information and/or data that you used.

d. Provide specific examples to illustrate your concerns, and suggest alternatives.

e. Explain your views as clearly as possible, avoiding the use of profanity or personal threats.

f. Make sure to submit your comments by the comment period deadline identified.

II. Information Available for Public Comment

The EPA is requesting comment on two revised chapters of the EPA Air Pollution Control Cost Manual. The Control Cost Manual contains individual chapters on control measures, with data and equations available to aid users to estimate the capital costs for installation and annual costs for operation and maintenance of these measures. The Control Cost Manual is used by the EPA for estimating the impacts of rulemakings, and serves as a basis for sources to estimate costs of controls that are best available control technology (BACT) under the New Source Review (NSR), and best available retrofit technology (BART) under the Regional Haze Program, and for other programs.

The two revised Control Cost Manual chapters are the selective non-catalytic reduction (SNCR) and the selective catalytic reduction (SCR) chapters (Section 4, Chapters 1 and 2, respectively). The current Cost Manual version (sixth edition) is available at http://epa.gov/ttn/catc/products.html#cccinfo, and was last updated in 2003. The Consolidated Appropriations Act of 2014 requested that the EPA begin development of a seventh edition of the Cost Manual. The EPA has met with state, local, and tribal officials to discuss plans for the Control Cost Manual update as called for under the Consolidated Appropriations Act of 2014. The EPA has met with other groups as well at their request.

To help focus review of the SNCR and SCR chapters, we offer the following list of questions that the agency is particularly interested in addressing through this notice, although commenters are welcome to address any aspects of these chapters. Please provide supporting data for responses to these questions, and other aspects of the chapters, as mentioned above.

For the SNCR chapter:

(1) What is a reasonable estimate of equipment life (defined as design or operational life) for this control measure?

(2) How do the costs of SNCR installation and operation differ between the electric power sector and industrial sources?

(3) What is a reasonable estimate of contingency, whether it be for one or more types, for this control measure?

For the SCR chapter:

(1) What is a reasonable estimate of equipment life (defined as design or operational life) for this control measure?

(2) How do the costs of SCR installation and operation differ between the electric power sector and industrial sources?

(3) What are typical SCR costs for catalyst replacement? In particular, please comment on the two different approaches for estimating catalyst replacement costs in this chapter. What are typical SCR costs for catalyst regeneration?

(4) What is a reasonable estimate of contingency, whether it be for one or more types, for this control measure?

Dated: June 5, 2015.
Stephen D. Page,
Director, Office of Air Quality Planning and Standards.

[FR Doc. 2015-14470 Filed 6-11-15; 8:45 am]

BILLING CODE 6560-50-P